SMALL BUSINESS ADMINISTRATION

[License No. 01/71-0372]

Zero Stage Capital VI, LP; Notice Seeking Exemption Under Section 312 of the Small Business Investment Act, Conflicts of Interest

Notice is hereby given that Zero Stage Capital VI, LP, 101 Main Street, Cambridge, MA 02142, a Federal Licensee under the Small Business Investment Act of 1958, as amended (“the Act”), in connection the financing of a small concern, has sought an exemption under section 312 of the Act and section 107.730, Financings which Constitute Conflicts of Interest of the Small Business Administration (“SBA”) rules and regulations (13 CFR 107.730 (2000)). Zero Stage Capital VI proposes to provide equity financing to t-Breeders, Inc. (“t-Breeders”), One Innovation Drive, Worcester, Massachusetts 01605. The financing is contemplated for funding growth.

The financing is brought within the purview of Sec. 107.730(a)(1) of the Regulations because Zero Stage Capital V, LP, an Associate of the Zero Stage Capital VI, currently owns greater than 10 percent of t-Breeders, Inc. and therefore t-Breeders, Inc. is considered an Associate of Zero Stage Capital VI as defined in Sec. 107.50 of the regulations.

Notice is hereby given that any interested person may submit written comments on the transaction to the Associate Administrator for Investment, U.S. Small Business Administration, 409 Third Street, SW, Washington, DC 20416.

Dated: April 26, 2000.
Don A. Christensen,
Associate Administrator for Investment.

[FR Doc. 00-11495 Filed 5-8-00; 8:45 am]

BILLING CODE 8025-01-P